DEPARTMENT OF TRANSPORTATION

Federal Aviation Administration

Waiver of Aeronautical Land-Use Assurance: The Eastern Iowa Airport, (CID) Cedar Rapids, IA

AGENCY: Federal Aviation Administration (FAA), DOT.

ACTION: Notice of Intent of Waiver with respect to land.

SUMMARY: The Federal Aviation Administration (FAA) is considering a proposal from the City of Cedar Rapids (sponsor), Cedar Rapids, IA, to release 3 tracts totaling 489.72 + (Tract 1: 259.88 + acres, Tract 2: 215.52 + acres and Tract 3; 14.32 + acres) of land from the federal obligation dedicating it to aeronautical use and to authorize these parcels to be used for revenue-producing, non-aeronautical purposes.

DATES: Comments must be received on or before February 8, 2018.

ADDRESSES: Comments on this application may be mailed or delivered to the FAA at the following address: Lynn D. Martin, Airports Compliance Specialist, Federal Aviation Administration, Airports Division, ACE-610C, 901 Locust, Room 364, Kansas City, MO 64106.

In addition, one copy of any comments submitted to the FAA must be mailed or delivered to: Marty Lenss, CM, 2515 Arthur Collins Parkway SW, Cedar Rapids, IA 52404-8952, (319) 362-3131.

FOR FURTHER INFORMATION CONTACT: Lynn D. Martin, Airports Compliance Specialist, Federal Aviation Administration, Airports Division, ACE-610C, 901 Locust, Room 364, Kansas City, MO 64106, Telephone number (816) 329-2644, Fax number (816) 329-2611, email address: lynn.martin@faa.gov.

SUPPLEMENTARY INFORMATION: The FAA invites public comment on the request to change approximately 489.72 + acres of airport property at The Eastern Iowa Airport (CID) from aeronautical use to non-aeronautical for revenue producing use. The tracts of land are located along the Northern boundary of the airport, near 76th Avenue SW and on the corner of 76th Ave. SW and Edgewood Road SW and the corner of 76th Ave. and 18th St. SW. These tracts will be used for light industrial/business park.

No airport landside or airside facilities are presently located on these tracts, nor are airport developments contemplated in the future. There is no current use of the surface of these tracts. The tracts will serve as revenue producing lots with the proposed change from aeronautical to non-aeronautical. The request submitted by the Sponsor meets the procedural requirements of the Federal Aviation Administration and the change to non-aeronautical status of the property does not and will not impact future aviation needs at the airport. The FAA may approve the request, in whole or in part, no sooner than thirty days after the publication of this Notice.

The following is a brief overview of the request:

The Eastern Iowa Airport (CID) is proposing the release of three tracts of land totaling 489.72 more or less acres from aeronautical to non-aeronautical. The release of land is necessary to comply with Federal Aviation Administration Grant Assurances that do not allow federally acquired airport property to be used for non-aviation purposes. The rental of the subject property will result in the land at The Eastern Iowa Airport (CID) being changed from aeronautical to nonaeronautical use and release the lands from the conditions of the Airport Improvement Program Grant Agreement Grant Assurances. In accordance with 49 U.S.C. 47107(c) (2)(B)(i) and (iii), the airport will receive fair market rental value for the property. The annual income from rent payments will generate a long-term, revenue-producing stream that will further the Sponsor's obligation under FAA Grant Assurance number 24, to make The Eastern Iowa Airport as financially self-sufficient as possible.

Following is a legal description of the subject airport property at The Eastern Iowa Airport (CID):

Legal Description Tract 1

A tract of land located in Section 24, Township 82 North, Range 8 West of the fifth principal meridian, Linn County, Iowa, more particularly described as follows:

Beginning at a point 20.00 feet South of the North line of said Section 24 and 33.00 feet East of the West line of said Section 24; thence North 88°28′54″ East, 2636.28 feet to the East line of the Northwest quarter of said section; thence North 88°24′05″ East, 2545.44 feet; thence South 32°33′15″ East, 85.48 feet to the West right-of-way line of Edgewood Road SW; thence South 02°00′36″ East, 2151.98 feet along said west right-of-way line; thence South 89°42′36″ West, 5229.22 feet; thence North 01°57′33″ West, 2109.54 feet to the point of beginning, containing 11,320,472 square feet or 259.88 acres more or less.

Legal Description Tract 2

A tract of land located in Section 19, Township 82 North, Range 7 West of the fifth principal meridian, Linn County, Iowa, more particularly described as follows:

Commencing at the Northwest corner of the Northeast quarter of the Northeast quarter of said Section 19, thence 42.52 feet along the West line of said Northeast quarter of the Northeast quarter to the point of beginning; thence continuing along said West line south 01°59′21″ East, 1279.63 feet to the Southwest corner of said Northeast quarter of the Northeast quarter; thence South 01°59′49″ East, 275.12 feet along the west line of the Southeast quarter of the Northeast quarter; thence North 89°41′40″ East, 1286.86 feet to the west right-of-way of 18th Street SW; thence South 01°57′44″ East, 514.69 feet along said West right-of-way line; thence South 81°10′45″ West, 874.43 feet; thence South 89°42′36″ West, 4335.69 feet to the East right-of-way line of Edgewood Road SW; thence North 02°00′36″ West, 2156.18 feet along said East right-of-way line; thence North 29°37′07″ East, 55.43 feet to the South right-of-way line of 76th Avenue SW; thence North 89°51′08″ East, 2569.06 feet along said South right-of-way line to the East line of the Northwest quarter of said section 19; thence North 89°39′57″ East, 1320.46 feet continuing along said South right-of-way line to the point of beginning, containing 9,388,150 square feet or 215.52 acres more or less.

Legal Description Tract 3

A parcel of land located in the North half of the Northwest quarter of the Northwest quarter of Section 20, Township 82 North, range 7 West of the fifth principal meridian lying west of the C.R. & I.C. Inter Railway, Linn County, Iowa, more particularly described as follows:

Beginning at the intersection of the South right-of-way line of 76th Avenue SW and the West right-of-way line of the C.R. & I.C. Inter Railway Company, thence South 07°13′24″ West, 624.42 feet along said West right-of-way to the South line of said North half of the Northwest quarter of the Northwest quarter; thence South 89°37′21″ West, 959.81 feet along said South line to the East right-of-way line of 18th Street SW; thence North 01°57′44″ West, 569.18 feet along said East right-of-way line; thence North 43°49′35″ East, 69.73 feet to the South right-of-way line of 76th Avenue SW; thence North 89°37′23″ East, 1009.53 feet along said South right-of-way line to the point of beginning, containing 623,678 square feet or 14.32 acres more or less.

Any person may inspect, by appointment, the request in person at the FAA office listed above FOR FURTHER INFORMATION CONTACT. In addition, any person may, upon appointment and request, inspect the application, notice and other documents determined by the FAA to be related to the application in person at The Eastern Iowa Airport.

Issued in Kansas City, MO on January 3, 2018.
Jim A. Johnson,
Director, Airports Division Central Region.

[FR Doc. 2018-00200 Filed 1-8-18; 8:45 am]

BILLING CODE 4910-13-P